DEPARTMENT OF AGRICULTURE

Rural Business-Cooperative Service

[Docket No. RBS-24-BUSINESS-0015]

Notice of Funding Opportunity for the Rural Energy for America Program for Fiscal Years 2025, 2026, and 2027

AGENCY: Rural Business-Cooperative Service, USDA.

ACTION: Notice.

SUMMARY: The Rural Business-Cooperative Service (RBCS or the Agency), a Rural Development (RD) agency of the United States Department of Agriculture (USDA) is issuing a Notice of Funding Opportunity (NOFO) to announce acceptance of grant, guaranteed loan, and combined grant and guaranteed loan applications under the Rural Energy for America Program (REAP). This notice announces the deadlines, dates, and times that applications must be received in order to be considered for REAP funds. The NOFO is being issued for Fiscal Years (FY) 2025, 2026, and 2027. The notice will not be applied retroactively to any applications previously filed. Applications received the date following the publication of this notice through September 30, 2027, will be evaluated and scored according to the provisions listed in this notice, unless otherwise amended via a subsequent notice.

DATES: As provided for in 7 CFR 4280.122, the Agency, by this notice, is decreasing the number of competitions for Renewable Energy Systems and Energy Efficiency Improvements (RES/EEI). The application deadline date and time as outlined in 7 CFR 4280.156(a) for Energy Audit and Renewable Energy Development Assistance (EA and REDA) remains unchanged. RES/EEI and Energy Efficient Equipment and systems (EEE) guaranteed loan applications are completed on an ongoing basis in accordance with 7 CFR 5001.315. See section D.4. of this notice for details on future RES/EEI grant competitions.

ADDRESSES: You are encouraged to contact your USDA RD State Energy Coordinator well in advance of the application deadline to discuss your project and ask any questions about the application process. Contact information for State Office Energy Coordinators can be found at rd.usda.gov/files/RBS_StateEnergyCoordinators.pdf.

Program guidance and application forms may be obtained at rd.usda.gov/programs-services/all-programs/energy-programs. To submit an electronic application via grants.gov, follow the instructions for the REAP funding announcement located at www.grants.gov.

FOR FURTHER INFORMATION CONTACT: Jonathan Burns, Programs Management Division, RBCS, USDA, 1400 Independence Avenue SW, Mail Stop 3226, Room 5801-S, Washington, DC 20250-3226, Phone: (774) 678-7238 or Email CPgrants@usda.gov.

SUPPLEMENTARY INFORMATION:

Overview

Federal Awarding Agency Name: USDA, Rural Business-Cooperative Service.

Funding Opportunity Title: Rural Energy for America Program (REAP).

Announcement Type: Notice of Funding Opportunity.

Funding Opportunity Number: RDBCP-REAP-RES-EEI-2025-2026-2027.

Assistance Listing Number: 10.868.

Dates: As provided for in 7 CFR 4280.122, the Agency, by this notice, is decreasing the number of competitions for RES/EEI. The application deadline date and time as outlined in 7 CFR 4280.156(a) for EA/REDA remains unchanged. RES/EEI and EEE guaranteed loan applications are completed on an ongoing basis in accordance with 7 CFR 5001.315. See section D.4 of this notice for details on future RES/EEI grant competitions.

Rural Development Key Priorities: The Agency encourages applicants to consider projects that will advance the following key priorities (more details available at www.rd.usda.gov/priority-points):

• Creating More and Better Markets: Assist rural communities to recover economically through more and better market opportunities and through improved infrastructure.

• Addressing Climate Change and Environmental Justice: Reduce climate pollution and increase resilience to the impacts of climate change through economic support for rural communities.

• Advancing Racial Justice, Place-Based Equity, and Opportunity: Ensure all rural residents have equitable access to RD programs and benefits from RD funded projects.

A. Program Description

1. Purpose of the Program. The Agency provides grants, guaranteed loans, and combined grant and guaranteed loan combinations through the REAP program to help agricultural producers and rural small businesses, including those Tribally owned or Tribal member owned, reduce energy costs and consumption and helps meet the Nation's critical energy needs. The REAP has two types of funding assistance: RES/EEI assistance and EA and REDA grants.

2. Statutory and Regulatory Authority. REAP is authorized by section 9007 of the Farm Security and Rural Investment Act of 2002, as amended, codified at 7 U.S.C. 8107 and is implemented by 7 CFR 4280 subpart B (ecfr.gov/current/title-7/subtitle-B/chapter-XLII/part-4280#part-4280) and 7 CFR part 5001 (ecfr.gov/current/title7/subtitle-B/chapter-L/part-5001). The Inflation Reduction Act (IRA) of 2022 provides additional authorities for REAP (Public Law 117-169, section 22002).

3. Definitions. The definitions applicable to this notice are published at 7 CFR 4280.103 and 7 CFR 5001.3. For the purpose of this notice only, underutilized renewable energy technologies (underutilized technologies) are defined as those technologies which do not produce greenhouse gases at the project level and make up less than 20 percent of the total grant dollars obligated at the end of the fiscal year, two (2) years previous to the current year. For example, FY 2023 award data will be utilized to determine which technologies are underutilized technologies for the FY 2025 competition.

4. Application of Awards. The Agency will review, evaluate and score applications based on the provisions found in 7 CFR 4280, subpart B, 7 CFR 5001, and as indicated in this notice. The Agency advises all interested parties that the applicant bears the full burden in preparing and submitting an application in response to this notice regardless of whether or not funding is appropriated for the REAP program or whether or not the applicant is ultimately successful.

B. Federal Award Information

Type of Award: Competitive grants and guaranteed loans.

Fiscal Year Funds: FYs 2025, 2026, and 2027.

Available Funds: The collective funding is anticipated to be at least $600,000,000 divided as indicated below:

a. IRA funding—Approximately $180,000,000 per Federal FY.

b. IRA underutilized renewable energy technology set aside funding—Approximately $20,000,000 per Federal FY.

The Agency may, at its discretion, increase the total level of funding available in this funding round (or in any category in this notice) from any available source provided the awards meet the requirements of the statute which made the funding available to the Agency.

Award Amounts: See Funding Restrictions in section E of this notice for minimum and maximum award amounts.

Anticipated Award Date: State competitions will be held after the close of each application window as described in section D.4 of this notice. States with high volumes may experience delays in their ability to conduct competitions. Stakeholders are encouraged to contact State Energy Coordinators to determine estimated dates of when their competition will be finalized. A list of State Energy Coordinators can be found at rd.usda.gov/sites/default/files/RBS_StateEnergyCoordinators.pdf.

Performance Period: Up to 24 months for grants. Guaranteed loans are governed by the loan terms.

Renewal or Supplemental Awards: None.

Type of Assistance Instrument: Grant, guaranteed loan, and grant and guaranteed loan combined funding.

Approximate Number of Awards: The collective estimated number of awards under this notice is 6,000 based on the three FYs included in the notice and will depend on the actual amount of funds made available and on the number of eligible applicants participating in this program.

C. Eligibility Information

1. Eligibility Requirements. Eligibility requirements for the applicant, borrower, lender, and project (as applicable) are clarified in 7 CFR part 4280, subpart B and in 7 CFR part 5001 and are summarized in this notice. Failure to meet the eligibility criteria by the time of the competition window will preclude the application from competing until all eligibility criteria have been met.

2. Eligible Borrowers and Lenders. To be eligible for the guaranteed loan portion of the program, borrowers must meet the eligibility requirements in 7 CFR 5001.126 and lenders must meet the eligibility requirements in 7 CFR 5001.130.

3. Eligible Projects. To be eligible for the program, a project must meet the eligibility requirements specified in 7 CFR 4280.113 for RES/EEI grant; 7 CFR 4280.150 for EA/REDA grant; 7 CFR 4280.137 for RES/EEI combined grant and guaranteed loan; and 7 CFR 5001.106 through 5001.108, as applicable, for RES/EEI/EEE loan guarantees. For RES/EEI grants:

a. Applicants are advised against starting construction prior to the Agency's completion of its environmental review process. Even if construction starts before the environmental review process is completed, the application may ultimately be determined to be ineligible.

b. Only projects that have been determined by the Agency to have technical merit, as determined using the procedures specified in 7 CFR 4280.117, are eligible for program funding.

c. Pursuant to the definition of Renewable Energy System in 7 CFR 4280.103, RES projects that include components and ancillary infrastructure such as flexible fuel pumps or electric vehicle charging stations may not be networked or utilize network management software that allows for payment processing as these systems include a mechanism for dispensing energy at retail.

4. Cost Sharing or Matching. Matching requirements for each type of funding, as applicable, are outlined in 7 CFR 4280.115 (b) for RES/EEI grant; and 7 CFR 4280.137 for RES/EEI combined grant and guaranteed loan.

5. Other:

a. Ineligible project costs.

i. Ineligible project costs are defined at: 7 CFR 4280.115(d) for RES/EEI grant and combined grant and guaranteed loans; 7 CFR 4280.152(c) for EA/REDA grant; and 7 CFR 4280.137 (j)(5) and 5001.122 for RES/EEI/EEE loan guarantees.

ii. Applicants are advised to not incur project costs, prior to Agency acknowledgement of a complete and eligible application. Pursuant to 7 CFR 4280.115(c) and 7 CFR 4280.152(b), any costs incurred prior to your complete application date are considered ineligible project costs. Final Federal grant share amounts are calculated at the time of reimbursement and are based on the documented total eligible project costs. Awardees must provide evidence of costs incurred at the time of reimbursement. Having ineligible project costs could result in receiving a lower Federal grant share amount than originally requested or approved, or a determination that a project is ineligible.

b. Other compliance requirements.

i. Debarment and Suspension. According to 2 CFR parts 180 subpart C and 2 CFR part 417, participants in covered transactions must verify that the person with whom you intend to do business is not excluded or disqualified. You, as a participant, may not enter into a covered transaction with an excluded person, unless the Federal agency for the transaction grants an exception. You can verify the person with whom you intend to do business is not excluded or disqualified by checking the System for Awards Management (SAM) exclusions, collecting a certification from that person, or adding a clause or condition to the covered transaction with that person.

ii. Federal Laws and Regulations. Applicants are subject to all applicable Federal laws and regulations, including USDA Departmental Regulations. Sections D and E of this notice contain other compliance requirements.

iii. Hemp Production.

A. The Agriculture Improvement Act of 2018, Public Law 115-334, as amended, (the 2018 Farm Bill) requires USDA to promulgate regulations and guidelines to establish and administer a program for the production of hemp in the United States.

B. In determining eligibility for the applicant, project or use of funds, any project applying for funding under the REAP program and proposing to produce, procure, supply or market any component of the hemp plant or hemp related by-products, or provide technical assistance related to such products, must have a valid license from an approved State, Tribal or Federal plan pursuant to section G of the Agricultural Marketing Act of 1946, as amended, to be in compliance with regulations published by the Agricultural Marketing Service at 7 CFR part 990, and meet any applicable U.S. Food and Drug Administration and U.S. Drug Enforcement Administration regulatory requirements. Verification of valid hemp licenses will occur prior to award. In addition, all projects proposing to use biomass feedstock from any part of the hemp plant must demonstrate assurance of an adequate supply of the feedstock.

D. Application and Submission Information

1. Address to Request Application Package. Application materials may be obtained by contacting the RD Energy Coordinator for the State where the proposed project will be located, as identified via the following link: rd.usda.gov/files/RBS_StateEnergyCoordinators.pdf. In addition, for grant applications, applicants may obtain electronic grant applications for REAP from grants.gov.

2. Content and Form of Application Submission. Applicants seeking to participate in this program must submit applications in accordance with this notice, 7 CFR part 4280 subpart B and 7 CFR part 5001, as applicable.

a. Applicants must submit complete applications by the dates identified in section D.4., of this notice, containing all parts necessary for the Agency to determine applicant and project eligibility, to score the application, and to conduct the technical merit evaluation, as applicable, in order to be considered. The Agency encourages the applicant to reach out to their Energy Coordinator to determine application status. The applicant bears all risk should they incur project costs or commence construction activities prior to Agency notification of a complete and eligible application and the completion of an environmental review.

b. Applicants must submit one original, hardcopy or electronic application to the appropriate RD Energy Coordinator for the State where the applicant's proposed project will be located, or for grant applications, submission may be via grants.gov or through other means identified on the Agency program website. A list of USDA RD State Office Energy Coordinators is available via the following link: rd.usda.gov/files/RBS_StateEnergyCoordinators.pdf.

3. System for Award Management and Unique Entity Identifier.

a. At the time of application, each applicant must have an active registration in the System for Award Management (SAM) before submitting its application in accordance with 2 CFR part 25. To register in SAM, entities will be required to obtain a Unique Entity Identifier (UEI). Instructions for obtaining the UEI are available at sam.gov/content/entity-registration.

b. Applicants must maintain an active SAM registration, with current, accurate and complete information, at all times during which it has an active Federal award or an application under consideration by a Federal awarding agency.

c. Applicants must ensure they complete the Financial Assistance General Certifications and Representations in SAM.

d. Applicants must provide a valid UEI in its application, unless determined exempt under 2 CFR 25.110.

e. The Agency will not make an award until the applicant has complied with all SAM requirements including providing the UEI. If an applicant has not fully complied with the requirements by the time the Agency is ready to make an award, the Agency may determine that the applicant is not qualified to receive a Federal award and use that determination as a basis for making a Federal award to another applicant.

4. Submission Dates and Times. Grant applications, guaranteed loan-only applications, and combined grant and guaranteed loan applications for financial assistance may be submitted at any time the application window is open and will compete accordingly based on the application window submission deadlines. To be considered for funds under this notice, complete applications must be received by the appropriate USDA RD State Office Energy Coordinator, regardless of postmark, or via www.grants.gov by 4:30 p.m. local time on the application window submission deadline. The complete application date is the date the Agency receives the last piece of information that allows the Agency to determine eligibility and to score, rank, and compete the application for funding. The Agency will not solicit or consider new scoring or eligibility information that is submitted after the application deadline. The Agency also reserves the right to ask applicants for clarifying information and additional verification of assertions in the application.

The Agency encourages applicants to reach out to their Energy Coordinator to determine application status. When an application window closes, the next application window opens on the following day, if applicable. An application received after the window closing date will be considered with other complete applications received in the next application window. If the competition deadline falls on a weekend or a federally observed holiday, the next Federal business day will be considered last day for receipt of a complete application. Applications not funded in a given competition will rollover to the next competition.

Applications will compete based upon on the dollar amount of grant request (set aside or unrestricted), the percent of Federal grant share to total project cost, or if the definition of underutilized technologies, as defined in section A.3. is met.

a. RES/EEI grant applications. As provided for in 7 CFR 4280.122, the Agency, by this notice, is updating when applications will be accepted and the number of competitions for RES/EEI grant applications. All application deadlines listed below apply to all grants, regardless of the amount requested.

i. Application window opening. The Agency will be accepting applications between July 1 and March 31 of each year covered under this notice. Competition deadlines are outlined below. In order to compete for funding in a competition cycle outlined below, a complete application must be received by the Agency before the deadline. Applicants may only have one active application for assistance per project regardless of Fiscal Year.

ii. Application window closing. The Agency will not be accepting applications between April 1 and June 30 of each year covered under this notice. If the Agency receives an application during this time, it will not be reviewed or processed, and the application will be returned.

iii. Application deadlines.

A. The following additional application deadlines are being announced for FY 2025:

(1) December 31, 2024; and

(2) March 31, 2025.

B. The following application deadlines are being announced for FY 2026:

(1) September 30, 2025;

(2) December 31, 2025; and

(3) March 31, 2026.

C. The following application deadlines are being announced for FY 2027:

(1) September 30, 2026;

(2) December 31, 2026; and

(3) March 31, 2027.

iv. Underutilized technologies. Only projects that propose the use of underutilized technologies will be eligible for set aside funding. Any unused underutilized technology set aside funding will revert to the general program funds on an annual basis.

v. National Office competition(s). National Office pooled competitions will be conducted on an as needed basis based on when projects are ready to compete. State allocated restricted funds will be pooled on or about June 1. Pooled restricted funds will first be used to fund eligible unselected requests of $20,000 or less. Any unused restricted funds may be made available to supplement National Office Reserve Account.

A. State allocated unrestricted funds will be pooled on or about August 1. Pooled unrestricted funds will first be used to fund eligible unselected requests of more than $20,000.

B. Applications may compete in National Office competitions provided it has competed in at least one State competition.

vi. Incomplete applications. If an application is determined to not be a complete application according to 7 CFR 4280.103, the applicant will have 15 business days to complete their application otherwise their application will be withdrawn. If the Agency requires additional clarification or documentation to determine applicant or project eligibility, applicants will have 15 business days to provide the information otherwise their application will be withdrawn. Please see Review and Selection Process under section E.2. for additional information.

b. EA/REDA grant applications. The application deadline date and time for the EA/REDA grants as outlined in 7 CFR 4280.156(a) remains unchanged. Complete applications must be received by 4:30 p.m. local time on January 31 of each year.

c. RES/EEI and Energy Efficient Equipment and Systems (EEE) guaranteed loans. Applications are competed on an ongoing basis in accordance with 7 CFR 5001.315.

5. Intergovernmental Review. REAP is not subject to Executive Order 12372, Intergovernmental Review of Federal Programs.

6. Funding Restrictions. The following funding limitations apply to applications submitted under this notice.

a. RES/EEI grant funds. IRA funds will be available to fund requests that do not exceed 50 percent of total eligible project costs. Farm Bill funds and annual appropriated funds, if any, may become available to fund requests that do not exceed 25 percent of total eligible project costs.

i. Maximum grant assistance. As provided for in 7 CFR 4280.115, modification is being made, via this notice, to increase the maximum grant assistance noted in 7 CFR 4280.115(a)(3). Projects receiving IRA grant funding are eligible for up to $1,000,000 for an RES project and $500,000 for an EEI project. Applicants can compete and be awarded only one RES grant and one EEI grant in a FY, which includes the grant portion of a combined funding request. Applicants may only have one active application for assistance per project regardless of FY.

Entities that share common management or ownership, regardless of percent owned, either directly or indirectly through another entity or person, have an aggregated funding limit of $500,000 in EEI awards and $1 million in RES awards per Federal Fiscal Year.

ii. Maximum request. As provided for in 7 CFR 4280.115, modification is being made, via this notice, to increase the maximum request noted in 7 CFR 4280.115(a)(2). The maximum request for a RES grant application is $1,000,000 and the maximum request for an EEI grant application is $500,000.

A. Pursuant to section 22002 of the IRA, the Federal grant portion of a project utilizing IRA funds cannot exceed 50 percent of total eligible project costs. Applications submitted on or after the next business day following the publication of the notice are subject to the requirements of this notice, unless otherwise specified in a subsequent Federal Register notice. Projects are eligible for up to 50 percent Federal grant share from IRA funds if the project meets one of the following criteria:

(1) Is a renewable energy system or retrofit of a renewable energy system that produces zero greenhouse gas emissions (carbon dioxide (CO2), methane (CH4), nitrous oxide (N2O), or fluorinated gases) at the project level;

(2) Is located in an Energy Community as defined in 26 U.S.C. 45(b)(11)(B), and as determined by the Department of Energy;

(3) Is an energy efficiency improvement project; or

(4) Is a project proposed from an eligible Tribal corporation or other Tribal Business entities (including Tribal agriculture operations) as described in 7 CFR part 4280.

All other applications, such as biomass and biogas projects, are eligible for up to 25 percent Federal grant share from IRA funds. The Federal grant portion of a project utilizing appropriations bills, continuing resolutions, or supplemental appropriations bills, cannot exceed 25 percent of total eligible project costs. Sources of REAP grant funds cannot be combined to fund a project. Loan and grant combination applications may use IRA grant funds and mandatory Farm Bill loan funds to fund a project.

B. For RES grants, the minimum request is a total project cost threshold of $10,000; therefore, at 25 percent funding the minimum grant request is $2,500, and at 50 percent funding the minimum grant request is $5,000. The maximum grant request is $1,000,000. For EEI grants, the minimum request is a total project cost threshold of $6,000, therefore at 25 percent funding the minimum grant request is $1,500 and at 50 percent funding the minimum grant request is $3,000. The maximum grant request is $500,000. These minimum and maximum limits also apply to the grant portion of a combined funding request.

C. For RES/EEI/EEE loan guarantees or the loan guaranteed portion of a combined funding request, the minimum REAP guaranteed loan amount is $5,000, and the maximum amount of a guaranteed loan to be provided to a borrower is $25 million. REAP guaranteed loan requests and combined grant and guaranteed loan requests will not exceed 75 percent of total eligible project costs, with the portion of any grant requests under this notice not exceeding 25, or 50 percent of total eligible project costs, as applicable to the source of grant funds and grant funding provisions as outlined in this notice.

iii. Disbursement. Pursuant to section 22002(c) of the IRA, the Secretary shall not enter into a loan agreement that may result in a disbursement after September 30, 2031, or a grant with an outlay after September 30, 2031. Applicants should plan accordingly.

b. EA/REDA applications.

i. Applicants may submit only one EA grant application and one REDA grant application in a FY. Separate applications must be submitted for EA funding and REDA funding. If an application is submitted for both EA and REDA funding or if an application's scope of work includes both EA and REDA activities, it will be determined ineligible for competition. The maximum aggregate amount of EA and REDA grant awards to any one recipient cannot exceed $100,000 in a FY.

ii. Applicants that have received one or more grants under this program must have made satisfactory progress per 7 CFR 4280.110(a) before being considered for funding.

iii. The 2018 Farm Bill mandates that the recipient of an EA grant must require the agricultural producer or rural small business receiving the energy audit to pay at least 25 percent of the cost of the energy audit, which shall be retained by the grantee for the cost of the audit.

E. Application Review Information

1. Criteria. Unless otherwise specified in a subsequent Federal Register notice, all complete applications received on or after the next business day following the publication of this notice will be scored in accordance with the following.

a. RES/EEI grant applications and RES/EEI combined grant and loan guarantee requests received between March 31, 2023, and September 30, 2024, or the business day before publication of this notice whichever happens last will be scored according to the notice published in the Federal Register on March 31, 2023, at 88 FR 19239.

b. As provided for in 7 CFR 4280.121, the Agency, by this notice, is updating RES/EEI grants and RES/EEI combined grant and loan guarantee scoring criteria. Applications submitted on or after the next business day following the publication of the notice will be scored based on the criteria identified below.

i. Existing business and size of request, 7 CFR 4280.121(e) and (g) will be removed from the scoring criteria.

ii. Project is located in a Disadvantaged Community or a Distressed Community (15 points will be added). A Disadvantaged Community will be determined by the Agency by using the Council on Environmental Quality's Climate and Economic Justice Screening Tool (which is incorporated into the USDA look-up map) which identifies communities burdened by climate change and environmental injustice. Additionally, all communities within the boundaries of federally recognized Tribes and Alaska Native Villages will also be determined to be Disadvantaged Communities by the Agency. Distressed Community will be determined by the Agency by using the Economic Innovation Group's Distressed Communities Index (which is incorporated into the USDA look-up map), which uses several socio-economic measures to identify communities with low economic wellbeing. To determine if your project is located in a Disadvantaged Community or a Distressed Community, please use the following USDA look-up map: ruraldevelopment.maps.arcgis.com/apps/webappviewer/index.html?id=4acf083be4c44bb7864d90f97de0c788. Points will be awarded if any portion of the project site is located within a disadvantaged or distressed communities.

iii. Environmental benefits, 7 CFR 4280.121(a) is being increased to a maximum of 10 points, and points will be awarded as follows: All projects which do not produce greenhouse gases at the project level will be awarded five (5) points and may be considered for up to a maximum of 10 points. Applicants must provide a detailed narrative or analysis to support additional environmental benefits. One point will be awarded for each of the five sub-criteria for documented environmental benefit supported by the project. Each additional benefit must be directly attributable to the RES/EEI project and assessed at the project level; (1) does not convert farmland; (2) does not contribute to deforestation or addresses fire hazards on forest lands; (3) documented water conservation; (4) complies with EPA's renewable fuel standards; and (5) at least 25 percent of project components are biobased.

iv. Commitment of funds, 7 CFR 4280.121(c) is being decreased to a maximum of 10 points.

v. State Director and Administrator priority points, 7 CFR 4280.121(h) have been modified as shown in item F.1.e. below.

vi. The remaining scoring criteria, energy generated, replaced or saved; previous grantees and borrowers; and simple payback, 7 CFR 4280.121 (b), (d), and (f), respectively, remain as stated in the regulation.

c. EA/REDA grants will be scored based on 7 CFR 4280.155.

d. RES/EEI/EEE guaranteed loans will be scored based on 7 CFR 5001.319 and item F.1.e. below.

e. State Director or Administrator priority points are found in 7 CFR 4280.121(h), 4280.137(h), and 5001.319(g). For the purposes of this notice, the State Director or Administrator at their discretion may award up to 10 priority points maximum. The maximum of 5 points will be awarded for projects which meets the following criterion:

Ensuring all rural residents have equitable access to RD programs and benefits from RD funded projects. Using the Social Vulnerability Index (SVI) Look-Up Map (available at rd.usda.gov/priority-pointsrd.usda.gov/priority-points), an applicant would receive priority points:

• The project is located in or serving a community with score 0.75 or above on the SVI;

• The applicant is a federally recognized Tribe, including Tribal instrumentalities and entities that are wholly owned by Tribes; or

• Is a project where at least 50 percent of the project beneficiaries are members of federally recognized Tribes and non-Tribal applicants include a Tribal Resolution of Consent from the Tribe or Tribes that the applicant is proposing to serve.

• The application is from or benefiting a Rural Partner's Network's (RPN) community network. Currently RPN Networks exist in Alaska, Arizona, Georgia, Kentucky, Mississippi, Nevada, New Mexico, North Carolina, Puerto Rico, West Virginia and Wisconsin. Use the Community Look-Up map (available at rd.usda.gov/priority-pointsrd.usda.gov/priority-points) to determine if your project qualifies for priority points.

Up to an additional 5 points may be awarded based on the following criteria:

i. Selecting the application helps achieve geographic diversity, which may include points based upon the size of the funding request;

ii. The applicant is a member of an unserved or underserved population.

A. Owned by a veteran, including but not limited to individuals as sole proprietors, members, partners, stockholders, etc., of not less than 20 percent. To receive points, applicants must provide a statement in their application to indicate that owners of the project have veteran status; or

B. Owned by a member of a socially disadvantaged group, which are groups whose members have been subjected to racial, ethnic, or gender prejudice because of their identity as members of a group without regard to their individual qualities. To receive points, the application must include a statement in their application to indicate that the owners of the project are members of a socially disadvantaged group;

iii. The proposed project is in a federally declared major disaster area. Declarations must be within the last 2 calendar years; or

iv. The proposed project is located in

A. An area where 20 percent or more of its population is living in poverty over the last 30 years, as defined by the United States Census Bureau, or

B. An area that has experienced long-term population decline, or loss of employment.

Except for veteran and socially disadvantaged group status, all other priority points are based upon project location specific criteria which will be documented automatically by the Agency. State Director or Administrator priority points for a REAP application cannot exceed 10 points total.

2. Review and Selection Process. Each application will be reviewed for completeness. If an application does not meet the definition of complete application, according to 7 CFR 4280.103, the Agency will send a notification identifying those parts of the application that are incomplete, and no further action will be taken on the application.

The Agency will give 15 business days for applicants to provide the missing documentation. The application will be withdrawn, and the applicant notified if the required documentation is not received within the 15 business days or if the information submitted by the deadline is insufficient.

Application processing will continue if all documentation is received timely and is sufficient to meet the definition of a complete application.

Once an application is deemed complete, the Agency will review for applicant and project eligibility as well as for financial and technical feasibility. If the Agency requires additional clarification or documentation, the Agency will send a notification and give a second 15 business day window for the applicant to provide the information needed for applicant and project eligibility and financial and technical feasibility.

The application will be withdrawn, and the applicant notified if the required information is not received within the 15 business days or if the information submitted by the deadline is insufficient.

Application processing will continue if all information is received timely and is sufficient for determining applicant and project eligibility as well as for financial and technical feasibility. The applicant will then receive a notification of the eligibility review outcome.

F. Federal Award Administration Information

1. Federal Award Notices

a. Each applicant and/or lender, as applicable, will be notified of the Agency's decision on their application.

b. If selected for funding, applicants will receive a notification from the Agency via postal service or email. Selection notification does not ensure grant approval. If selected, a Letter of Conditions will be prepared establishing conditions that must be agreed to by the applicant before any obligation of funds can occur. Letters of Condition will be sent with Form RD 1942-46, “Letter of Intent to Meet Conditions”, and Form RD 1940-1, “Request for Obligation of Funds.” Applicants must complete, sign, and return Form RD 1942-46 and RD 1940-1 if they accept the conditions of the grant.

c. If not selected for funding, a notification will be provided via postal service or email and will include any review and or appeal rights.

2. Administrative and National Policy Requirements

a. Additional Requirements.

i. Additional requirements that apply to applicants selected for a program award can be found in 7 CFR part 4280, subpart B, or 7 CFR part 5001; the Grants and Agreements regulations of the Department of Agriculture codified in 2 CFR parts 180, 200, 400, 415, 417, 418, 421; 2 CFR part 25, and successor regulations to these parts. The following additional completed documents are required for Applicants selected for a program award:

A. RD 4280-2, “Financial Assistance Agreement.”

B. Form RD-400-4, “Assurance Agreement.”

C. Form RD-400-1 “Equal Opportunity Agreement.”

D. SF LLL, “Disclosure of Lobbying Activities,” if applicable.

b. Build America, Buy America Act. Funding to Non-Federal Entities. Awardees that are Non-Federal Entities, defined pursuant to 2 CFR 200.1 as any State, local government, Indian Tribe, Institution of Higher Education, or nonprofit organization, shall be governed by the requirements of section 70914 of the Build America, Buy America Act (BABAA) within the IIJA. Any requests for waiver of these requirements must be submitted pursuant to USDA's guidance available online at usda.gov/ocfo/federal-financial-assistance-policy/USDABuyAmericaWaiver.

c. Geospatial Data. Awardee, and any and all contracts entered into by the Awardee with respect to the Award, shall ensure that geospatial data required to be collected and provided to the agency, conforms with the requirements of USDA Department Regulation DR-3465-001 and the Geospatial Metadata Standards set forth in DM 3465-001, which can be obtained online at usda.gov/directives/dr-3465-001andusda.gov/directives/dm-3465-001.

d. Transparency Act Reporting. All recipients of Federal financial assistance are required to report information about first-tier subawards and executive compensation in accordance with 2 CFR part 170. If an applicant does not have an exception pursuant to 2 CFR 170.105, the applicant must then ensure that they have the necessary processes and systems in place to comply with the reporting requirements to receive funding.

e. Race, ethnicity, and gender. The Agency is requesting that each applicant provide race, ethnicity, and gender information about the applicant. The information will allow the Agency to evaluate its outreach efforts to underserved and under-represented populations. Applicants are encouraged to furnish this information with their application but are not required to do so. An applicant's eligibility or the likelihood of receiving an award will not be impacted by furnishing or not furnishing this information.

3. Reporting. The Agency will service RES and EEI grants in accordance with 7 CFR 4280.124 and 2 CFR part 400. The following will be required, as indicated in the Financial Assistance Agreement, and specified at 7 CFR 4280.124(i):

a. An SF-425, “Federal Financial Report,” and a project performance report will be required on a semiannual basis (due 30 working days after end of the semiannual period) between grant approval and completion (i.e., construction) of the project. For the purposes of this grant, semiannual periods end on June 30 and December 31 of each year. The project performance reports shall include the elements prescribed in the Financial Assistance Agreement.

b. Form RD 4280-3D, `Annual Outcome Project Performance Certification' as outlined in 7 CFR 4280.124(i)(3), must be provided by grantee once the project has been constructed.

c. A final project and financial status report must be provided within 120 days after the expiration or termination of the grant as outlined in 7 CFR 4280.124(i)(2)(ii).

G. Federal Awarding Agency Contacts

For general questions about this announcement, please contact Jonathan Burns at CPgrants@usda.gov or (774) 678-7238. The Agency website also provides up to date contact information at rd.usda.gov/programs-services/energy-programs/rural-energy-america-program-renewable-energy-systems-energy-efficiency-improvement-guaranteed-loans.

H. Other Information

1. Paperwork Reduction Act. In accordance with the Paperwork Reduction Act of 1995, the information collection requirements associated with the programs, as covered in this notice, have been approved by the Office of Management and Budget (OMB) under OMB Control Number 0570-0067.

2. National Environmental Policy Act. All recipients under this notice are subject to the requirements of 7 CFR part 1970.

3. Federal Funding Accountability and Transparency Act. All applicants, in accordance with 2 CFR part 25, must be registered in SAM and have a UEI number as stated in section D.3 of this notice. All recipients of Federal financial assistance are required to report information about first-tier sub-awards and executive total compensation in accordance with 2 CFR part 170.

4. Civil Rights Act. All grants made under this notice are subject to title VI of the Civil Rights Act of 1964 as required by the USDA 7 CFR part 15, subpart A and section 504 of the Rehabilitation Act of 1973, title VIII of the Civil Rights Act of 1968, title IX, Executive Order 13166 (Limited English Proficiency), Executive Order 11246, and the Equal Credit Opportunity Act of 1974.

5. Equal Opportunity for Religious Organizations.

a. Faith-based organizations may apply for this award on the same basis as any other organization, as set forth at, and subject to the protections and requirements of, this part and any applicable constitutional and statutory requirements, including 42 U.S.C. 2000bb et seq. USDA will not, in the selection of recipients, discriminate for or against an organization on the basis of the organization's religious character, motives, or affiliation, or lack thereof, or on the basis of conduct that would not be considered grounds to favor or disfavor a similarly situated secular organization.

b. A faith-based organization that participates in this program will retain its independence from the Government and may continue to carry out its mission consistent with religious freedom and conscience protections in Federal law. Religious accommodations may also be sought under many of these religious freedom and conscience protection laws.

c. A faith-based organization may not use direct Federal financial assistance from USDA to support or engage in any explicitly religious activities except when consistent with the Establishment Clause of the First Amendment and any other applicable requirements. An organization receiving Federal financial assistance also may not, in providing services funded by USDA, or in their outreach activities related to such services, discriminate against a program beneficiary or prospective program beneficiary on the basis of religion, a religious belief, a refusal to hold a religious belief, or a refusal to attend or participate in a religious practice.

6. Signage. The Awardee is encouraged to display USDA standard infrastructure investment signage, available for download from the Agency, during construction of the project. Expenditures for such signage shall be a permitted eligible cost of IRA funded projects.

7. Nondiscrimination Statement. In accordance with Federal civil rights law and USDA civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident. Program information may be made available in languages other than English.

Persons with disabilities who require alternative means of communication to obtain program information (e.g., Braille, large print, audiotape, American Sign Language) should contact the responsible Mission Area, agency, or staff office; or the 711 Relay Service.

To file a program discrimination complaint, a complainant should complete a Form AD3027, USDA Program Discrimination Complaint Form, which can be obtained online at https://www.usda.gov/sites/default/files/documents/ad-3027.pdf, from any USDA office, by calling (866) 632-9992, or by writing a letter addressed to USDA. The letter must contain the complainant's name, address, telephone number, and a written description of the alleged discriminatory action in sufficient detail to inform the Assistant Secretary for Civil Rights (ASCR) about the nature and date of an alleged civil rights violation.

The completed AD-3027 form or letter must be submitted to USDA by:

(i) Mail: U.S. Department of Agriculture, Office of the Assistant Secretary for Civil Rights, 1400 Independence Avenue SW, Washington, DC 20250-9410; or

(ii) Fax: (833) 256-1665 or (202) 690-7442; or

(iii) Email: program.intake@usda.gov.

USDA is an equal opportunity provider, employer, and lender.

Kathryn E. Dirksen Londrigan,
Administrator, Rural Business-Cooperative Service, USDA, Rural Development.

[FR Doc. 2024-23854 Filed 10-15-24; 8:45 am]

BILLING CODE 3410-XY-P